Executive Order 14267 of April 9, 2025

Reducing Anti-Competitive Regulatory Barriers

By the authority vested in me as President by the Constitution and the laws of the United States of America, it is hereby ordered:

Section 1. Purpose. Federal regulations should not predetermine economic winners and losers. Yet some regulations operate to exclude new market entrants. Regulations that reduce competition, entrepreneurship, and innovation—as well as the benefits they create for American consumers—should be eliminated. This order commences the process for eliminating anti-competitive regulations to revitalize the American economy.

Sec. 2. Definitions. (a) “Agency” has the meaning given to it in section 3502 of title 44, United States Code, except that it does not include the Executive Office of the President or any components thereof.

(b) “Agency head” means the highest-ranking official of an agency, such as the Secretary, Administrator, Chairman, or Director, unless otherwise specified in this order.

Sec. 3. Rescinding Anti-Competitive Regulations. (a) Agency heads shall, in consultation with the Chairman of the Federal Trade Commission (Chairman) and the Attorney General, complete a review of all regulations subject to their rulemaking authority and identify those that:

(i) create, or facilitate the creation of, de facto or de jure monopolies;

(ii) create unnecessary barriers to entry for new market participants;

(iii) limit competition between competing entities or have the effect of limiting competition between competing entities;

(iv) create or facilitate licensure or accreditation requirements that unduly limit competition;

(v) unnecessarily burden the agency's procurement processes, thereby limiting companies' ability to compete for procurements; or

(vi) otherwise impose anti-competitive restraints or distortions on the operation of the free market.

(b) Within 70 days of the date of this order, agency heads shall each provide to the Chairman and the Attorney General a list of regulations identified by the categories specified in subsection (a) of this section. Agency heads shall also include a recommendation as to whether each of the listed regulations warrants rescission or modification in light of its anti-competitive effects. For recommended modifications, agency heads shall briefly specify what modification is appropriate. For regulations that are anti-competitive by design, agency heads shall provide a justification for their anti-competitive effects if the agency head is not proposing rescission or modification.

(c) In conducting the review required by subsection (a) of this section, agency heads shall prioritize review of those rules that satisfy the definition of “significant regulatory action” in Executive Order 12866 of September 30, 1993 (Regulatory Planning and Review), as amended.

(d) Within 10 days of the date of this order, the Chairman shall issue a request for information (RFI) that seeks public input on the identification of regulations that fall within the categories specified in subsection (a) of this section, as well as comments explaining the proposed classifications. The request shall remain open for 40 days. Upon the close of the RFI period, the Chairman shall convey any relevant responses to the agency with rulemaking authority over the identified regulation.

(e) Within 90 days of receipt of the agency lists specified in subsection (b) of this section, the Chairman, in consultation with the Attorney General, the Assistant to the President for Economic Policy, and the relevant agency heads, shall provide to the Director of the Office of Management and Budget (OMB Director) a consolidated list of regulations that warrant rescission or modification in light of their anti-competitive effects, along with recommended modifications. The Chairman may include on the consolidated list regulations not originally included on an agency list if such regulations fall within at least one of the categories outlined in subsections (a)(i)-(vi) of this section.

(f) Upon receipt of the consolidated list described in subsection (e) of this section, the OMB Director, through the Administrator of the Office of Information and Regulatory Affairs, shall consult with the Chairman, the Attorney General, the Assistant to the President for Economic Policy, and the relevant agency heads to decide whether to incorporate the proposed rescissions or modifications into the Unified Regulatory Agenda developed pursuant to Executive Order 14219 of February 19, 2025 (Ensuring Lawful Governance and Implementing the President's “Department of Government Efficiency” Deregulatory Initiative).

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 9, 2025.

[FR Doc. 2025-06463

Filed 4-14-25; 8:45 am]

Billing code 3395-F4-P